DEPARTMENT OF TRANSPORTATION

Federal Aviation Administration

14 CFR Parts 25, 121, and 129

[Docket No.: FAA-2014-0500; Amdt. Nos. 25-143, 121-375, and 129-52]

RIN 2120-AK30

Fuel Tank Vent Fire Protection; Correction

AGENCY: Federal Aviation Administration (FAA), DOT.

ACTION: Final rule; correction.

SUMMARY: The FAA is correcting a final rule published in the Federal Register on June 24, 2016 (81 FR 41200). In that final rule, the FAA amended certain airworthiness regulations for transport category airplanes to require fuel tank designs that prevent a fuel tank explosion caused by the propagation of flames, from external fires, through the fuel tank vents. The final rule requires a delay of two minutes and thirty seconds between exposure of external fuel tank vents to ignition sources and explosions caused by propagation of flames into the fuel tank, thus increasing the time available for passenger evacuation and emergency response. The amendments apply to applications for new type certificates and certain applications for amended or supplemental type certificates. The amendments also require certain airplanes produced in the future and operated by air carriers to meet the new standards.

However, in that document, the amendment numbers for the final rules were incorrect, and an airplane model number in a footnote was incorrect. This document now posts the correct amendment numbers and airplane model number in the footnote.

DATES: This correction is effective on July 26, 2016.

FOR FURTHER INFORMATION CONTACT: For technical questions concerning this action, contact Mike Dostert, Propulsion and Mechanical Systems Branch, ANM-112, Transport Airplane Directorate, Aircraft Certification Service, Federal Aviation Administration, 1601 Lind Ave. SW., Renton, WA 98057-3356; telephone (425) 227-2132; facsimile (425) 227 1149; email Mike.Dostert@faa.gov.

SUPPLEMENTARY INFORMATION:

Background

On June 24, 2016, the FAA published a final rule titled, “Fuel Tank Vent Fire Protection” in the Federal Register (81 FR 41200).

The intent of that rule is to prevent fuel tank explosions caused by ignition from external ignition sources of fuel vapor either contained in vapor spaces ¹ or exiting from vapor spaces through the fuel tank vent outlets. Potential external ignition sources include, but are not limited to, ground handling equipment, fuel fires that result from refueling spills, or ground fires that follow a survivable crash landing in which the fuel tank and the vent system remain intact. Means to prevent or delay the propagation of flame ² from external sources into the fuel tank through the fuel tank vent system ³ would also prevent or delay fuel tank explosions following certain accidents. These means include flame arrestors or fuel tank inerting. This prevention or delay would provide additional time for the safe evacuation of passengers from the airplane and for emergency personnel to provide assistance.

¹ A vapor space is any portion of the airplane fuel tanks and the fuel tank vent system that, if such tanks and system held any fuel, could contain fuel vapor.

² Flame propagation is the spread of a flame in a combustible environment outward from the point at which the combustion started.

³ A fuel tank vent system is a system that ventilates fuel vapor from the airplane fuel tanks to the atmosphere. A fuel tank vent system ensures that the air and fuel pressure within the fuel tank stay within structural limits required by § 25.975(a).

The rule applies to applications for new type certificates and applications for amended or supplemental type certificates on significant product-level change projects in which title 14, Code of Federal Regulations (14 CFR) 25.975, “Fuel tank vents and carburetor vapor vents,” is applicable to a changed area. Additionally, a new operating requirement in both 14 CFR part 121, “Operating Requirements: Domestic, Flag, and Supplemental Operations,” and 14 CFR part 129, “Operations: Foreign Air Carriers and Foreign Operators of U.S.-Registered Aircraft Engaged in Common Carriage,” applies to airplanes that are issued an original airworthiness certificate after a specified date.

However, the rule published with incorrect amendment numbers, “25-142, 21-376, and 129-53.” Amendment number 25-142 is the same amendment number as the rule titled “Harmonization of Airworthiness Standards—Fire Extinguishers and Class B and F Cargo Compartments,” which published in the Federal Register on February 16, 2016 (81 FR 7698). Amendment numbers 21-376 and 129-53 are incorrect designations. The correct amendment numbers for this rule are “25-143, 121-375, and 129-52.”

In the same publication on page 41203 in footnote number 14, the Lockheed airplane model number referenced is “328.” The correct number should be “382.”

Correction

In FR Doc. 2016-14454, beginning on page 41200 in the Federal Register of June 24, 2016, make the following corrections:

Correction

1. On page 41200, in the second column, correct the 4th header paragraph to read as follows:

“[Docket No.: FAA-2014-0500; Amdt. Nos. 25-143, 121-375, and 129-52].”

2. On page 41203, in the second column, correct the text of footnote number 14 to read as follows:

“The previously approved Lockheed 382 and Embraer flame arrestors would not have met the 2 minute and 30 second requirement.”

Issued under authority provided by 49 U.S.C. 106(f) and 44701(a) in Washington, DC, on July 19, 2016.
Lirio Liu,
Director, Office of Rulemaking.

[FR Doc. 2016-17590 Filed 7-25-16; 8:45 am]

BILLING CODE 4910-13-P